LEGAL SERVICES CORPORATION

Sunshine Act Meeting

TIME AND DATE: The Legal Services Corporation's Board of Directors and its six committees will meet July 28-30, 2019. On Sunday, July 28, the first meeting will commence at 12:30 p.m., Eastern Daylight Time (EDT), with the meetings thereafter commencing promptly upon adjournment of the immediately preceding meeting. On Monday, July 29, the first meeting will commence at 9:30 a.m. (EDT), with the next meeting commencing promptly upon adjournment of the immediately preceding meeting. The closed session meeting of the Board of Directors will commence promptly upon adjournment of the open session of the Board of Directors meeting.

PLACE: The Courtyard by Marriott Portland, Downtown Waterfront, 321 Commercial Street, Portland, Maine 04101.

STATUS: Unless otherwise noted herein, the Board and all committee meetings will be open to public observation. Members of the public who are unable to attend in person but wish to listen to the public proceedings may do so by following the telephone call-in directions provided below.

Call-in Directions for Open Sessions:

• Call toll-free number: 1-866-451-4981;

• When prompted, enter the following numeric pass code: 5907707348.

• Once connected to the call, your telephone line will be automatically “MUTED”.

• To participate in the meeting during public comment press #6 to “UNMUTE” your telephone line, once you have concluded your comments please press *6 to “MUTE” your line.

Members of the public are asked to keep their telephones muted to eliminate background noises. To avoid disrupting the meeting, please refrain from placing the call on hold if doing so will trigger recorded music or other sound. From time to time, the presiding Chair may solicit comments from the public.

Meeting Schedule

Sunday, July 28, 2019: Time: * 12:30 p.m.

* Please note that all times in this notice are in Eastern Daylight Time.

1. Operations & Regulations Committee

2. Governance and Performance Review Committee

3. Communications Subcommittee Committee

4. Institutional Advancement Committee

Monday, July 29, 2019: 9:30 a.m.

1. Audit Committee

2. Delivery of Legal Services Committee

Tuesday, July 30, 2019: 8:00 a.m.

1. Finance Committee

2. Board of Directors

Status of Meeting: Open, except as noted below.

Board of Directors—Open, except that, upon a vote of the Board of Directors, a portion of the meeting may be closed to the public to hear briefings by management and LSC's Inspector General, and to consider and act on the General Counsel's report on potential and pending litigation involving LSC, and on a list of prospective funders.**

** Any portion of the closed session consisting solely of briefings does not fall within the Sunshine Act's definition of the term ``meeting'' and, therefore, the requirements of the Sunshine Act do not apply to such portion of the closed session. 5 U.S.C. 552b(a)(2) and (b). See also 45 CFR 1622.2 & 1622.3.

Audit Committee—Open, except that the meeting may be closed to the public to hear a briefing on the Office of Compliance and Enforcement's active enforcement matters.**

Institutional Advancement Committee—Open, except that, upon a vote of the Board of Directors, the meeting may be closed to the public to consider and act on recommendation of new Leaders Council invitees and to receive a briefing on the development activities.**

A verbatim written transcript will be made of the closed session of the Board, Institutional Advancement Committee, and Audit Committee meetings. The transcript of any portions of the closed sessions falling within the relevant provisions of the Government in the Sunshine Act, 5 U.S.C. 552b(c)(6) and (10), will not be available for public inspection.

A copy of the General Counsel's Certification that, in his opinion, the closing is authorized by law will be available upon request.

MATTERS TO BE CONSIDERED:

July 28, 2019

Operations & Regulations Committee

Open Session

1. Approval of agenda

2. Approval of minutes of the Committee's Open Session meeting of April 7, 2019

3. Consider and act on Notice of Proposed Rulemaking for 45 CFR part 1610 and 1630—Use of Non-LSC Funds, Program Integrity, and Cost Standards

• Ron Flagg, General Counsel and Vice President for Legal Affairs

• Mark Freedman, Senior Associate General Counsel

4. Consider and act on the 2019-2020 Rulemaking Timeline

• Ron Flagg, General Counsel and Vice President for Legal Affairs

• Stefanie Davis, Assistant General Counsel

5. Public comment

6. Consider and act on other business

7. Consider and act on adjournment of meeting

Governance and Performance Review Committee

Open Session

1. Approval of agenda

2. Approval of minutes of the Committee's Open Session meeting on April 7, 2019

3. Approval of minutes of the Committee's Closed Session meeting on April 7, 2019

4. Report on foundation grants and LSC's research agenda

• Jim Sandman, President

5. Report on transition planning

• Carol Bergman, Vice President for Government Relations & Public Affairs

• Ron Flagg, Vice President for Legal Affairs, General Counsel, and Corporate Secretary

6. Consider and act on other business

7. Public comment

8. Consider and act on adjournment of meeting

July 28, 2019

Communications Subcommittee of the Institutional Advancement Committee

Open Session

1. Approval of agenda

2. Approval of minutes of the Subcommittee's Open Session meeting of April 8, 2019

3. Communications and Social Media update

• Carl Rauscher, Director of Communications and Media Relations

4. Public comment

5. Consider and act on other business

6. Consider and act on motion to adjourn the meeting

July 28, 2019

Institutional Advancement Committee

Open Session

1. Approval of agenda

2. Approval of minutes of the Committee's Open Session meeting of April 8, 2019

3. Update on Leaders Council and Emerging Leaders Council

• John G. Levi, Chairman of the Board

4. Development report

• Nadia Elguindy, Director of Institutional Advancement

5. Consider and act on Resolution #2019-XXX, Minnesota Charitable Organization Annual Report Form

6. Public Comment

7. Consider and act on other business

8. Consider and act on motion to adjourn the open session meeting and proceed to a closed session

Closed Session

9. Approval of minutes of the Committee's Closed Session meeting of April 8, 2019

10. Development activities report

• Nadia Elguindy, Director of Institutional Advancement

• Jim Sandman, President

11. Consider and act on motion to approve Leaders Council and Emerging Leaders Council invitees

12. Consider and act on other business

13. Consider and act on motion to adjourn the meeting

July 29, 2019

Audit Committee

Open Session

1. Approval of agenda

2. Approval of minutes of the Committee's Open Session meeting on April 8, 2019

3. Approval of minutes of the Committee's Closed Session meeting on April 8, 2019

4. Approval of minutes of the Combined Audit and Finance Committee's Open Session on April 8, 2019

5. Approval of minutes of the Combined Audit and Finance Committee's Closed Session on April 8, 2019

6. Briefing of Office of Inspector General

• Jeffrey Schanz, Inspector General

• Roxanne Caruso, Assistant Inspector General for Audits

7. Management update regarding risk management

• Ron Flagg, Vice President for Legal Affairs, General Counsel and Corporate Secretary

8. Briefing on integrity of LSC electronic data

• Jada Breegle, Chief Information Officer

9. Briefing about follow-up by the Office of Compliance and Enforcement on referrals by the Office of Inspector General regarding audit reports and annual Independent Public audits of grantees

• Lora Rath, Director of Compliance and Enforcement

• Roxanne Caruso, Assistant Inspector General for Audits

10. Public comment

11. Consider and act on other business

12. Consider and act on motion to adjourn the open session meeting and proceed to a closed session

Closed Session

13. Approval of minutes of the Committee's Closed Session meeting of April 8, 2019

14. Briefing by the Office of Compliance and Enforcement on active enforcement matter(s) and follow-up to open investigation referrals from the Office of Inspector General

• Lora Rath, Director of Compliance and Enforcement

15. Briefing on status of Audit recommendations and, pursuant to Section VIII(C)(1) of the Committee Charter, review of LSC's systems of internal controls that are designed to minimize the risk of fraud, theft, corruption, or misuse of funds

• Debbie Moore, Treasurer & Chief Financial Officer

16. Consider and act on adjournment of meeting

July 29, 2019

Delivery of Legal Services Committee

Open Session

1. Approval of agenda

2. Approval of minutes of the Committee's Open Session meeting on April 8, 2019

3. Discussion of future topics for Delivery of Legal Services Committee panel presentations

4. Panel presentation on expanding access through technology projects

• Jack Hancock, Client-Focused Technology Innovator, Pine Tree Legal Assistance

• J. Singleton, Legal Technology Project Manager, Minnesota Legal Services State Support

• Gordon Shaw, Director of Client Access, Community Legal Aid

• Moderator: Lynn Jennings, Vice President of Grants Management

5. Public comment

6. Consider and act on other business

7. Consider and act on motion to adjourn the meeting

July 30, 2019

Finance Committee

Open Session

1. Approval of agenda

2. Approval of minutes of the Committee's Closed Session meeting of April 7, 2019

3. Approval of the minutes of the Combined Finance and Audit Committees' Open Session meeting of April 8, 2019

4. Approval of the minutes of the Combined Finance and Audit Committees' Closed Session meeting of April 8, 2019

5. Approval of minutes of the Committee's Open Session telephonic meeting of June 6, 2019

6. Presentation of LSC's Financial Reports for the quarter ending June 30, 2019

• Debbie Moore, Treasurer and Chief Financial Officer

7. Presentation of LSC's Financial Projection for the year ending September 30, 2019, and consider and act on FY 2019 Revised Consolidated Operating Budget, Resolution 2019-XXX

• Debbie Moore, Treasurer and Chief Financial Officer

8. Report on the FY 2020 appropriations process

• Carol Bergman, Director of Government Relations & Public Affairs

9. Consider and act on Temporary Operating Budget for FY 2020, Resolution 2019-XXX

• Debbie Moore, Treasurer and Chief Financial Officer

10. Report on status of upcoming technology expenditures

• Jada Breegle, Chief Information Officer

• Debbie Moore, Treasurer and Chief Financial Officer

11. Public comment

12. Consider and act on other business

13. Consider and act on adjournment of meeting

July 30, 2019

Board of Directors

Open Session

1. Pledge of Allegiance

2. Approval of agenda

3. Approval of minutes of the Board's Open Session meeting of April 8, 2019

4. Approval of minutes of the Board's Open Session telephonic meeting of May 21, 2019

5. Chairman's Report

6. Members' Report

7. President's Report

8. Inspector General's Report

9. Consider and act on the report of the Operations and Regulations Committee

10. Consider and act on the report of the Governance and Performance Review Committee

11. Consider and act on the Institutional Advancement Committee

12. Consider and act on the report of the Finance Committee

13. Consider and act on the report of Delivery of Legal Services Committee

14. Consider and act on the report of the Audit Committee

15. Consider and act on resolution, In Memoriam of Judge Sarah Singleton

16. Consider and act on resolution, In Recognition and Appreciation of Distinguished Service by Members of the LSC Opioid Task Force

17. Consider and act on resolution, In Recognition and Appreciation of Distinguished Service by Sidley Austin Associates

18. Public comment

19. Consider and act on other business

20. Consider and act on whether to authorize an executive session of the Board to address items listed below, under Closed Session

Closed Session

21. Approval of minutes of the Board's Closed Session meeting of April 9, 2019

22. Briefing by Management

23. Briefing by Inspector General

24. Consider and act on list of prospective Leaders Council members

25. Consider and act on General Counsel's report on potential and pending litigation involving LSC

26. Consider and act on motion to adjourn meeting

CONTACT PERSON FOR INFORMATION: Katherine Ward, Executive Assistant to the Vice President & General Counsel, at (202) 295-1500. Questions may be sent by electronic mail to FR_NOTICE_QUESTIONS@lsc.gov.

Non-confidential Meeting Materials: Non-confidential meeting materials will be made available in electronic format at least 24 hours in advance of the meeting on the LSC website, at http://www.lsc.gov/board-directors/meetings/board-meeting-notices/non-confidential-materials-be-considered-open-session.

Accessibility: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: July 18, 2019.
Katherine Ward,
Executive Assistant to the Vice President for Legal Affairs, General Counsel & Corporate Secretary.

[FR Doc. 2019-15671 Filed 7-22-19; 11:15 am]

BILLING CODE 7050-01-P